DEPARTMENT OF THE INTERIOR

Bureau of Reclamation

Account for Central Valley Project (CVP) Water Transfers Under Mid-Pacific Region Business Practice Guidelines (Guidelines)

AGENCY: Bureau of Reclamation, Interior.

ACTION: Notice of availability and request for comments.

SUMMARY: The Mid-Pacific Regional Office of the Bureau of Reclamation is proposing guidelines to provide Mid-Pacific Region field, area, and Regional Office employees with the information necessary to consistently and accurately account for water transfers between all contractors who receive CVP water under water service, repayment, settlement, or exchange contracts. Comments on the guidelines are being requested.

DATES: Submit written comments on these guidelines by May 17, 2007 to the address below.

ADDRESSES: Written comments should be either addressed to: Bureau of Reclamation, Attention: Lawrence Bauman, MP-3400, 2800 Cottage Way, Sacramento, CA 95825 or e-mailed to Mr. Bauman at lbauman@mp.usbr.gov. The guidelines are located at www.usbr.gov/mp/cvpwaterrates. To request a copy of these guidelines, contact Mr. Bauman at either of the above addresses or call 916-978-5364.

FOR FURTHER INFORMATION CONTACT: For additional information, please contact Katherine Thompson at 916-978-5550 or e-mail: kathompson@mp.usbr.gov.

SUPPLEMENTARY INFORMATION: Reclamation is proposing the guidelines and requesting public comments. The guidelines are available at http://www.usbr.gov/mp/cvpwaterrates and are the culmination of over one year of meetings and discussions involving Reclamation staff and the CVP Water Association's Financial Affairs Committee. They provide a long-term framework and will be updated only on an as-needed basis.

Revenue application will be included as a separate section of these guidelines. A Federal Register notice with a separate comment period will be provided upon completion.

Before including your address, phone number, e-mail address, or other personal identifying information in your comment, please be aware that your entire comment (including your personal identifying information) may be made publicly available at any time. While you can ask us in your comment to withhold your personal identifying information from public review, we cannot guarantee that we will be able to do so.

Dated: March 30, 2007.
Susan M. Fry,
Regional Environmental Officer, Mid-Pacific Region.

[FR Doc. E7-7239 Filed 4-16-07; 8:45 am]

BILLING CODE 4310-MN-P